DEPARTMENT OF DEFENSE

Department of the Army

[Docket ID USA-2014-0037]

Privacy Act of 1974; System of Records

AGENCY: Department of the Army, DoD.

ACTION: Notice to delete a System of Records.

SUMMARY: The Department of the Army proposes to delete a system of records, A0351 USAREUR, entitled “Individual Academic Record Files” in its inventory of record systems subject to the Privacy Act of 1974, as amended. This system was used to determine the eligibility for enrollment/attendance, monitor student progress, and record accomplishments for management studies and reports.

DATES: Comments will be accepted on or before November 19, 2014. This proposed action will be effective on the day following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Leroy Jones, Jr., Department of the Army, Privacy Office, U.S. Army Records Management and Declassification Agency, 7701 Telegraph Road, Casey Building, Suite 144, Alexandria, VA 22315-3827 or by phone at 703-428-6185.

SUPPLEMENTARY INFORMATION: The Department of the Army systems of records notices subject to the Privacy Act of 1974 (5 U.S.C. 552a), as amended, have been published in the Federal Register and are available from the address in FOR FURTHER INFORMATION CONTACT or at the Defense Privacy and Civil Liberties Division Web site at http://dpclo.defense.gov/. The proposed changes to the record system being amended are set forth below. The proposed amendment is not within the purview of subsection (r) of the Privacy Act of 1974 (5 U.S.C. 552a), as amended, which requires the submission of a new or altered system report.

Dated: October 14, 2014.
Aaron Siegel,
Alternate OSD Federal Register Liaison Officer, Department of Defense.

Deletion:

A0351 USAREUR

Individual Academic Record Files (September 11, 2001, 66 FR 47181).

Reason: The USAREUR military activity that was collecting these records was deactivated in 2011 and is no longer operational. The remaining records will now be covered under System of Records Notice, A0350-1a TRADOC, Resident Individual Training Management System (RITMS) (December 14, 2010, 75 FR 77853) and will retain the same 40 year retention period from date of deactivation of activity; therefore, A0351 USAREUR can be deleted.

[FR Doc. 2014-24766 Filed 10-17-14; 8:45 am]

BILLING CODE 5001-06-P